DEPARTMENT OF AGRICULTURE

Rural Utilities Service

Associated Electric Cooperative Incorporated; Notice of Intent To Hold Public Scoping Meeting and Prepare an Environmental Assessment

AGENCY: Rural Utilities Service, USDA.

ACTION: Notice of intent to hold public scoping meeting and prepare an environmental assessment (EA).

SUMMARY: The Rural Utilities Service (RUS), an agency delivering the U.S. Department of Agriculture's Rural Development Utilities Programs, hereinafter referred to as Rural Development and/or Agency, intends to hold a public scoping meeting and prepare an Environmental Assessment (EA) in connection with potential impacts related to projects proposed by Associated Electric Cooperative, Inc. (AECI) of Springfield, Missouri. The proposal consists of the construction of a new 540-megawatt gas-fired combustion combined-cycle generation unit at the existing Chouteau Power Plant, a new substation approximately two miles east of the existing plant, a 161-kV transmission line from the existing plant to the new substation, and a single circuit 345-kV line from the new substation to the existing Grand River Dam Authority (GRDA) Coal-Fired Power Plant in Mayes County, Oklahoma. AECI is requesting financing assistance from the Agency for the proposed action.

DATES: The Agency will conduct a scoping meeting in an open house format seeking the input of the public and other interested parties. The meeting will be held from 6 p.m. until 8 p.m., on September 16, 2008.

ADDRESSES: The September 16, 2008 meeting will be held at the Mid America Expo Center, Mid America Industrial Park, Pryor, Oklahoma 74361. An Alternatives Report, prepared by Associated Electric Cooperative, Inc., will be available at the public scoping meetings, at the Agency's address provided in this notice, at the Agency's Web site: http://www.usda.gov/rus/water/ees/ea.htm, at Associated Electric Cooperative, Inc., 211 South Golden, Springfield, Missouri 65801 and at the: Pryor Public Library, 505 E Graham, Pryor, OK 74361, Phone: (918) 825-0777.

FOR FURTHER INFORMATION CONTACT: Stephanie Strength, Environmental Protection Specialist, USDA Rural Development, Utilities Programs, Engineering and Environmental Staff, 1400 Independence Avenue, SW., Stop 1571, Washington, DC 20250-1571, or e-mail stephanie.strength@wdc.usda.gov.

SUPPLEMENTARY INFORMATION: Associated Electric Cooperative, Inc. proposes to construct a new 540-megawatt gas-fired combustion combined-cycle generation unit at the existing Chouteau Power Plant in Mayes County, Oklahoma with an in-service date of early 2011. The proposed 540 MW generating project will be connected to a new 161/345-kV substation that will serve both the existing and proposed generating facilities. This substation will be located approximately two miles east of the Chouteau Power Plant on 16.7 acres. A single circuit 161-kV transmission line would be constructed from the existing Chouteau Power Plant to the new 345/161-kV substation and a single circuit 345-kV line will be constructed from the new substation to the existing Grand River Dam Authority (GRDA) Coal-Fired Power Plant. Government agencies, private organizations, and the public are invited to participate in the planning and analysis of the proposed project. Representatives from the Agency and Associated Electric Cooperative, Inc. will be available at the scoping meeting to discuss the environmental review process, describe the proposal, discuss the scope of environmental issues to be considered, answer questions, and accept comments. Comments regarding the proposed action may be submitted (orally or in writing) at the public scoping meetings or in writing for receipt no later than October 16, 2008 to the Agency at the address provided in this notice.

From information provided in the Alternatives Report, input that may be provided by government agencies, private organizations, and the public, Associated Electric Cooperative, Inc. will prepare an environmental analysis to be submitted to the Agency for review. The Agency will review the environmental analysis to determine the significance of the impacts of the proposal and if acceptable will adopt it as its environmental assessment (EA) of the proposal. The Agency's EA would be available for review and comment for 30 days. Should the Agency determine, based on the EA for the proposal, that impacts associated with the construction and operation of the proposal would not have a significant environmental impact, it will prepare a finding of no significant impact (FONSI). Public notification of a FONSI would be published in the Federal Register and in newspapers with circulation in the proposal area.

Any final action by the Agency related to the proposed project will be subject to, and contingent upon, compliance with environmental review requirements as prescribed by the Agency's environmental policies and procedures (7 CFR part 1794).

Dated: August 28, 2008.
Mark S. Plank,
Director, Engineering and Environmental Staff, USDA/Rural Development/Utilities Programs.

[FR Doc. E8-20418 Filed 9-2-08; 8:45 am]

BILLING CODE 3410-15-P